NATIONAL ARCHIVES AND RECORDS ADMINISTRATION

[NARA-2024-051]

Freedom of Information Act (FOIA) Advisory Committee Meetings

AGENCY: Office of Government Information Services (OGIS), National Archives and Records Administration (NARA).

ACTION: Notice of meetings.

SUMMARY: We are announcing two upcoming Freedom of Information Act (FOIA) Advisory Committee meetings in accordance with the Federal Advisory Committee Act and the second United States Open Government National Action Plan.

DATES: The meetings will be on Monday, September 9, 2024, from 10 a.m. to 1 p.m. EDT and Friday, September 13, 2024, from 10 a.m. to 1 p.m. EDT. You must register by 11:59 p.m. EDT September 7, 2024, and 11:59 p.m. EDT September 11, 2024, respectively, to attend the meetings. (See registration information below.)

ADDRESSES: The September 9, 2024, meeting will be held in the William G. McGowan Theater at the National Archives Building, 700 Pennsylvania NW, Washington, DC. The September 13, 2024, meeting will be a virtual meeting. We will send access instructions for each meeting to those who register according to the instructions below.

FOR FURTHER INFORMATION CONTACT: Kirsten Mitchell, Designated Federal Officer for this committee, by email at foia-advisory-committee@nara.gov, or by telephone at 202.741.5770.

SUPPLEMENTARY INFORMATION:

Agendas and meeting materials: We will post all meeting materials, including the agendas, at https://www.archives.gov/ogis/foia-advisory-committee/2024-2026-term.

These meetings will be the first and second of the sixth committee term. The purpose of the meetings will be to introduce the members and the work of the committee, establish subcommittees and, for each subcommittee, select co-chairs (one government co-chair and one non-government co-chair).

Procedures: These meetings are open to the public in accordance with the Federal Advisory Committee Act, (5 U.S.C. 1001-1014). If you wish to offer oral public comments during the public comments periods of the meetings, you must register in advance (see deadlines in Dates section above) through Eventbrite at: (1) https://www.eventbrite.com/e/freedom-of-information-act-advisory-committee-meeting-sept-9-2024-tickets-978278285687 for the September 9, 2024, meeting; and (2) https://www.eventbrite.com/e/freedom-of-information-act-foia-advisory-committee-mtg-sept-13-2024-tickets-978228988237 for the September 13, 2024, meeting.

Public comments for both meetings will be limited to three minutes per individual. Oral public comments must be made in person at the September 9, 2024, meeting and virtually at the September 13, 2024, meeting. If you plan to attend the September 9, 2024, meeting in person, you will go through security screening when you enter the building.

For both meetings, you must provide an email address so that we can provide you with information to access the meeting. We will also live-stream both meetings on the National Archives YouTube channel, https://www.youtube.com/user/usnationalarchives, and include a captioning option.

To request additional accommodations (e.g., a transcript), email foia-advisory-committee@nara.gov or call 202.741.5770. Members of the media who wish to register, those who are unable to register online, and those who require special accommodations, should contact Kirsten Mitchell (contact information listed above).

Merrily Harris,
Committee Management Officer.

[FR Doc. 2024-18501 Filed 8-16-24; 8:45 am]

BILLING CODE 7515-01-P